DEPARTMENT OF TRANSPORTATION

Federal Aviation Administration

14 CFR Part 71

[Docket No. FAA-2011-0759; Airspace Docket No. 11-AAL-12]

Amendment of Class E Airspace; Nuiqsut, AK

AGENCY: Federal Aviation Administration (FAA), DOT.

ACTION: Final rule.

SUMMARY: This action revises Class E airspace at Nuiqsut, AK, to accommodate the amendment of two standard instrument approach procedures at the Nuiqsut Airport. The FAA is taking this action to enhance safety and management of Instrument Flight Rules (IFR) operations at the Nuiqsut Airport. The action also adjusts the coordinates for the Nuiqsut Airport.

DATES: Effective 0901 UTC, December 15, 2011. The Director of the Federal Register approves this incorporation by reference action under title 1, Code of Federal Regulations, part 51, subject to the annual revision of FAA Order 7400.9 and publication of conforming amendments.

FOR FURTHER INFORMATION CONTACT: Martha Dunn, AAL-538G, Federal Aviation Administration, 222 West 7th Avenue, Box 14, Anchorage, AK 99513-7587; telephone number: (907) 271-5898; fax: (907) 271-2850; email: Martha.ctr.Dunn@faa.gov. Internet address: http://www.faa.gov/about/office_org/headquarters_offices/ato/service_units/systemops/fs/alaskan/rulemaking/.

SUPPLEMENTARY INFORMATION:

History

On Wednesday, August 10, 2011, the FAA published a notice of proposed rulemaking (NPRM) in the Federal Register to revise Class E airspace at Nuiqsut, AK (76 FR 49386).

Interested parties were invited to participate in this rulemaking proceeding by submitting written comments on the proposal to the FAA. No comments were received, but the FAA determined that the 1200 ft transition airspace overlies Control 1485L and that airspace should have been excluded from the rule. This action corrects that error. The FAA also noted that the coordinates published for the Nuiqsut Airport were outdated and they are corrected in this action.

Class E5 airspace designated as 700 and 1200 foot transition areas are published in FAA Order 7400.9V, Airspace Designations and Reporting Points, signed September 9, 2011, and effective September 15, 2011 which is incorporated by reference in 14 CFR 71.1. The Class E airspace designations listed in this document will be published subsequently in the Order. With the exception of editorial changes, this rule is the same as that proposed in the NPRM.

The Rule

This action amends Title 14 Code of Federal Regulations (14 CFR) part 71 by revising Class E airspace at the Nuiqsut Airport, Nuiqsut, AK, to accommodate the amendment of a two standard instrument approach procedures. The Class E airspace provides adequate controlled airspace extending upward from 700 and 1,200 feet above the surface is necessary for the safety and management of IFR operations at the airport. The action also revises the geographic coordinates for the Nuiqsut Airport to be in concert with the FAA's aeronautical database.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class E airspace sufficient in size to contain aircraft executing instrument procedures for the Nuiqsut Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, signed September 9, 2011, and effective September 15, 2011, is amended as follows:

Paragraph 6005 Class E airspace extending upward from 700 feet or more above the surface of the earth.

* * * * *

AAL AK E5 Nuiqsut AK [Revised]

Nuiqsut Airport, AK

(Lat. 70°12′35″ N., long. 151°00′23″ W.)

That airspace extending upward from 700 feet above the surface within a 6.4-mile radius of the Nuiqsut Airport, AK and that airspace extending upward from 1,200 feet above the surface within a 73-mile radius of the Nuiqsut Airport, AK, excluding that airspace which overlies Control 1485L.

Issued in Anchorage, AK, on October 14, 2011.
Marshall G. Severson,
Acting Manager, Alaska Flight Services.

[FR Doc. 2011-27806 Filed 10-27-11; 8:45 am]

BILLING CODE 4910-13-P